DEPARTMENT OF COMMERCE

National Oceanic and Atmospheric Administration

[RTID 0648-XF118]

North Pacific Fishery Management Council; Public Meeting

AGENCY: National Marine Fisheries Service (NMFS), National Oceanic and Atmospheric Administration (NOAA), Commerce.

ACTION: Notice of web conference.

SUMMARY: The North Pacific Fishery Management Council (Council) Crab Plan Team will meet September 8, 2025, through September 12, 2025.

DATES: The meeting will be held on Monday, September 8, 2025, through Friday, September 12, 2025, from 8 a.m. to 4 p.m. Alaska Time.

ADDRESSES: The meetings will be a web conference. Join online through the link at https://meetings.npfmc.org/Meeting/Details/3097.

Council address: North Pacific Fishery Management Council, 1007 W 3rd Ave., Anchorage, AK 99501-2252; telephone: (907) 271-2809. Instructions for attending the meeting via video conference are given under SUPPLEMENTARY INFORMATION.

FOR FURTHER INFORMATION CONTACT: Anita Kroska, Council staff; phone; (907) 271-2809; email: anita.kroska@noaa.gov. For technical support please contact our admin Council staff, email: npfmc.admin@noaa.gov.

SUPPLEMENTARY INFORMATION:

Agenda

Monday, September 8, 2025, Through Friday, September 12, 2025

The agenda will include (a) summer trawl survey results; (b) fishery summary 2024/2025; (c) Ecosystem Status Report; (d) risk table review; (e) Bristol Bay Red King Crab SAFE report and risk table; (f) Snow crab SAFE report and risk table; (g) BBRKC and snow crab report cards; (h) Tanner crab SAFE report and risk table; (i) Tanner crab ESP; (j) Pribilof Island Red King Crab SAFE report; (k) Pribilof Island Blue King Crab SAFE report; (l) Aleutian Island Golden King Crab proposed models; (m) Norton Sound Red King Crab model-based indices updates; (n) overfishing status updates; (o) Bering Sea Fisheries Research Foundation update; (p) Harvest Control Rules workshop discussion; and (q) additional topics. The agenda is subject to change, and the latest version will be posted at https://meetings.npfmc.org/Meeting/Details/3097 prior to the meeting, along with meeting materials.

Connection Information

You can attend the meeting online using a computer, tablet, or smart phone, or by phone only. Connection information will be posted online at: https://meetings.npfmc.org/Meeting/Details/3097.

Public Comment

Public comment letters will be accepted and should be submitted electronically to https://meetings.npfmc.org/Meeting/Details/3097.

Authority: 16 U.S.C. 1801 et seq.

Dated: August 18, 2025.
Rey Israel Marquez,
Acting Deputy Director, Office of Sustainable Fisheries, National Marine Fisheries Service.

[FR Doc. 2025-15955 Filed 8-20-25; 8:45 am]

BILLING CODE 3510-22-P